DEPARTMENT OF ENERGY

Federal Energy Regulatory Commission

Combined Notice of Filings #1

September 18, 2009.

Take notice that the Commission received the following electric rate filings:

Docket Numbers: ER05-1372-002; ER05-1373-002; ER05-1374-002; ER05-1375-002; ER05-1376-002; ER99-2774-017; ER07-189-006; ER07-190-006; ER07-191-006; ER07-192-004.

Applicants: CinCap IV, LLC, CinCap V LLC, Cinergy Capital & Trading, Inc., Cinergy Power Investments, Inc., St. Paul Cogeneration, LLC, Duke Energy Trading & Marketing, LLC, Duke Energy Indiana, Inc., Duke Energy Kentucky, Inc., Duke Energy Ohio, Inc., Duke Energy Business Services, Inc.

Description: Duke Energy Corp et al submits First Substitute Sheet 2 et al to FERC Electric Tariff, Original Volume 2 Superseding Rate Schedule FERC No 1, First Revised Volume 1.

Filed Date: 09/15/2009.

Accession Number: 20090917-0006.

Comment Date: 5 p.m. Eastern Time on Tuesday, October 06, 2009.

Docket Numbers: ER09-1431-000.

Applicants: Midwest Independent Transmission System Operator, Inc.

Description: The Midwest Independent Transmission System Operator, Inc submits response to the Commission's letter dated 9/2/09 seeking additional information.

Filed Date: 09/17/2009.

Accession Number: 20090918-0091.

Comment Date: 5 p.m. Eastern Time on Thursday, September 24, 2009.

Docket Numbers: ER09-1710-000.

Applicants: KEB Trading LLC.

Description: KEB Trading LLC submits application for Market-Based Rate Authorization and Request for Waivers and Blanket Authorizations and Request for Expedited Treatment.

Filed Date: 09/17/2009.

Accession Number: 20090917-0070.

Comment Date: 5 p.m. Eastern Time on Thursday, October 08, 2009.

Docket Numbers: ER09-1713-000.

Applicants: PJM Interconnection, L.L.C.

Description: PJM Interconnection, LLC submits two executed interconnection service agreements among PJM, Commonwealth Edison Company, Blackstone Wind Farm, LLC, et al.

Filed Date: 09/16/2009.

Accession Number: 20090917-0073.

Comment Date: 5 p.m. Eastern Time on Wednesday, October 07, 2009.

Docket Numbers: ER09-1714-000.

Applicants: Southwest Power Pool, Inc.

Description: Southwest Power Pool, Inc (SPP) submits executed Large Generator Interconnection Agreement among SPP, Elk City Wind, et al.

Filed Date: 09/16/2009.

Accession Number: 20090917-0072.

Comment Date: 5 p.m. Eastern Time on Wednesday, October 07, 2009.

Docket Numbers: ER09-1715-000; ER09-1715-001.

Applicants: Employers' Energy Alliance of Pennsylvania.

Description: The Energy Cooperative of Pennsylvania, Inc (EEA-PA) notifies the Commission of the name change of The Energy Cooperative of Pennsylvania, Inc. to reflect EEA-PA's rate schedule.

Filed Date: 09/17/2009.

Accession Number: 20090917-0069.

Comment Date: 5 p.m. Eastern Time on Thursday, October 08, 2009.

Take notice that the Commission received the following open access transmission tariff filings:

Docket Numbers: OA07-100-001.

Applicants: Black Hills Power, Inc.

Description: Black Hills Power, Inc submits Third Revised Sheet 147 et al to FERC Electric Tariff, Second Substitute First Revised Volume 4, Order 890 Attachment C compliance filing.

Filed Date: 09/14/2009.

Accession Number: 20090917-0005.

Comment Date: 5 p.m. Eastern Time on Monday, October 05, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-23349 Filed 9-25-09; 8:45 am]

BILLING CODE 6717-01-P